CONSUMER FINANCIAL PROTECTION BUREAU

[Docket No. CFPB-2026-0006]

Agency Information Collection Activities: Comment Request

AGENCY: Consumer Financial Protection Bureau.

ACTION: Notice and request for comment.

SUMMARY: In accordance with the Paperwork Reduction Act of 1995 (PRA), the Consumer Financial Protection Bureau (CFPB or Bureau) is requesting to revise an existing information collection titled “Report of Terms of Credit Card Plans (Form FR 2572) and Consumer and College Credit Card Agreements” approved under OMB Control Number 3170-0001.

DATES: Written comments are encouraged and must be received on or before April 7, 2026 to be assured of consideration.

ADDRESSES: You may submit comments, identified by the title of the information collection, OMB Control Number (see below), and docket number (see above), by any of the following methods:

• Federal eRulemaking Portal: http://www.regulations.gov. Follow the instructions for submitting comments.

• Email: PRA_Comments@cfpb.gov. Include Docket No. CFPB-2026-0006 in the subject line of the email.

• Mail/Hand Delivery/Courier: Comment Intake, Consumer Financial Protection Bureau (Attention: PRA Office), 1700 G Street NW, Washington, DC 20552. Because paper mail in the Washington, DC area and at the CFPB is subject to delay, commenters are encouraged to submit comments electronically.

Please note that comments submitted after the comment period will not be accepted. In general, all comments received will become public records, including any personal information provided. Sensitive personal information, such as account numbers or Social Security numbers, should not be included.

FOR FURTHER INFORMATION CONTACT: Requests for additional information should be directed to Anthony May, PRA Officer, at (202) 435-7278, or email: CFPB_PRA@cfpb.gov. If you require this document in an alternative electronic format, please contact CFPB_Accessibility@cfpb.gov. Please do not submit comments to these email boxes.

SUPPLEMENTARY INFORMATION:

Title of Collection: Report of Terms of Credit Card Plans (Form FR 2572) and Consumer and College Credit Card Agreements.

OMB Control Number: 3170-0001.

Type of Review: Revision of a currently approved collection.

Affected Public: Private sector.

Estimated Number of Respondents: 665.

Estimated Total Annual Hours: 564.

Abstract: The Bureau intakes different forms of credit card data from credit card issuers, as required by the Truth in Lending Act (TILA), 15 U.S.C. 1601 et seq. and implementing regulations.

1. Information Collection

The Bureau implements three credit card data information collections:

(a) Terms of Credit Card Plans Survey: TILA section 136(b) requires the Bureau to collect data on credit card pricing and availability from a sample of at least 150 issuers, including the 25 largest issuers of credit cards and not less than 125 additional financial institutions selected by the Bureau.

(b) Credit Card Quarterly Agreement Submission: section 204 of the Credit Card Accountability Responsibility and Disclosure Act of 2009 (CARD Act), amending TILA, and 12 CFR 1026.58 requires card issuers with 10,000 or more open accounts to submit to the Bureau agreements between the issuer and a consumer under a credit card account for an open-end consumer credit plan.

(c) College Credit Card Annual Agreement Submission: section 305 of the CARD Act, amending TILA, and 12 CFR 1026.57(d), require card issuers to submit to the Bureau any college credit card agreements to which the issuer is a party and certain additional information regarding those agreements.

The data collections enable the Bureau to provide Congress and the public with a centralized and searchable repository for terms of credit card plans, consumer credit card agreements, college credit card agreements and information regarding the arrangements between financial institutions and institutions of higher education.

2. Modifications to the TCCP Survey

Beginning with the January 1-June 30, 2025 TCCP Survey, the Bureau developed a new sampling approach to be more consistent with the tenets of the Restoring Gold Standard Science Executive Order (E.O.14303). First, the CFPB expanded the sampling frame beyond the approximately 700 credit card issuers already in its Collect system to about 2,200 banks and credit unions with credit card balances exceeding $1 million as reported in the issuer's most recent Call Report. Second, the CFPB employed a stratified random sampling procedure to select firms that would be asked to participate in the survey.

Previously, sampling frames were limited to the population of financial institutions with 10,000 or more open accounts that are required to submit credit card agreements to the CFPB through the Collect system. The new approach added credit card issuers with fewer than 10,000 open accounts that had not previously participated in the CFPB's credit card agreement or survey collections.

The Bureau is considering a number of options for future survey cycles to meet the requirements of TILA, adhere to tenets of Gold Standard Science, and minimize unnecessary burden on financial institutions. The options include:

(a) Making no additional changes;

(b) Modifying the sample selection methodology to make the likelihood of selecting a financial institution proportional to the size of its credit card balances; or

(c) Selecting a new survey panel each biannual cycle, rather retaining some financial institutions across cycles, and increasing the number of annual respondents from 225 to 450.

Comments are invited on the Bureau's approach to selecting institutions to participate in the survey and the burden considerations for smaller credit card issuers.

The Bureau will consider revising the Estimated Number of Respondents and Estimated Total Annual Hours higher to reflect changes to the sampling approach.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB's approval. All comments will become a matter of public record.

Anthony May,
Paperwork Reduction Act Officer, Consumer Financial Protection Bureau.

[FR Doc. 2026-02456 Filed 2-5-26; 8:45 am]

BILLING CODE 4810-AM-P